DEPARTMENT OF THE INTERIOR

Fish and Wildlife Service

[FWS-R7-SM-2009-N111] [70101-1261-0000-L6]

Proposed Information Collection; OMB Control Number 1018-0075; Federal Subsistence Regulations and Associated Forms

AGENCY: Fish and Wildlife Service, Interior.

ACTION: Notice; request for comments.

SUMMARY: We (Fish and Wildlife Service, Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on October 31, 2009. We may not conduct or sponsor and a person is not required to respond to a collection of information unless it displays a currently valid OMB control number.

DATES: You must submit comments on or before July 27, 2009.

ADDRESSES: Send your comments on the IC to Hope Grey, Information Collection Clearance Officer, Fish and Wildlife Service, MS 222-ARLSQ, 4401 North Fairfax Drive, Arlington, VA 22203 (mail); or hope_grey@fws.gov (e-mail).

FOR FURTHER INFORMATION CONTACT: To request additional information about this IC, contact Hope Grey by mail or e-mail (see ADDRESSES) or by telephone at (703) 358-2482.

SUPPLEMENTARY INFORMATION:

I. Abstract

The Alaska Interest Lands Conservation Act (ANILCA) and Service regulations at 50 CFR 100 require that persons engaged in taking fish, shellfish, and wildlife on public lands in Alaska apply for and obtain a permit to do so and comply with reporting provisions of that permit. Under the current approval for this information collection, we use three forms to collect information from qualified rural residents for subsistence harvest:

(1) FWS Form 3-2326 (Federal Subsistence Hunt Application, Permit, and Report).

(2) FWS Form 3-2327 (Designated Hunter Permit Application, Permit, and Report.

(3) FWS Form 3-2328 (Federal Subsistence Fishing Application, Permit, and Report.

We are proposing to add two new forms:

(1) FWS Form 3-2378 (Designated Fishing Permit Application, Permit, and Report).

(2) FWS Form 3-2379 (Federal Subsistence Customary Trade Recordkeeping Form).

We use the information collected to evaluate:

(1) Subsistence harvest success.

(2) Effectiveness of season lengths, harvest quotas, and harvest restrictions.

(3) Hunting patterns and practices.

(4) Hunter use.

The Federal Subsistence Board uses the harvest data, along with other information, to set future season dates and bag limits for Federal subsistence resource users. These seasons and bag limits are set to meet needs of subsistence hunters without adversely impacting the health of existing animal populations.

During the renewal process for this information, we reviewed our regulations and discovered some information collection requirements not specifically addressed in our previous request for approval. We also collect nonform information on:

(1) Repeal of Federal subsistence rules and regulations (50 CFR 100.14).

(2) Proposed changes to Federal subsistence regulations (50 CFR 100.18).

(3) Special action requests (50 CFR 100.19).

(4) Requests for reconsideration (50 CFR 100.20).

(5) Requests for permits and reports, such as traditional religious/cultural/educational permits; fishwheel permits; fyke net permits; and under ice permits (50 CFR 100.25-27).

Our regulations at 50 CFR 100 contain procedures for the above information collection requirements, including the documentation that must be submitted. The documentation will ensure that we have all of the information necessary to adequately consider requests.

II. Data

OMB Control Number: 1018-0075.

Title: Federal Subsistence Regulations and Associated Forms, 50 CFR 100.

Service Form Number(s): FWS Forms 3-2326, 3-2327, 3-2328, 3-2378, and 3-2379.

Type of Request: Revision of a currently approved collection.

Affected Public: Federally defined rural residents in Alaska.

Respondent's Obligation: Required to obtain or retain a benefit.

Frequency of Collection: On occasion.

Activity | Number of annual respondents | Number of annual responses | Completion time per response | Annual burden hours
FWS Form 3-2326 - Hunt Application, Permit, and Report | 5,000 | 5,000 | 15 minutes | 1,250
FWS Form 3-2327 - Designated Hunter Application, Permit, and Report | 450 | 450 | 15 minutes | 113
FWS Form 3-2328 - Fishing Application, Permit, and Report | 250 | 250 | 15 minutes | 63
FWS Form 3-2378 - Designated Fisher Permit Application, Permit, and Report | 450 | 450 | 15 minutes | 113
FWS Form 3-2379 - Customary Trade Recordkeeping Form | 25 | 25 | 15 minutes | 6
50 CFR 100.14 - Petition to Repeal Subsistence Rules | 1 | 1 | 2 hours | 2
50 CFR 100.18 - Proposed Changes | 75 | 75 | 30 minutes | 38
50 CFR 100.19 - Special Actions Request | 25 | 25 | 30 minutes | 13
50 CFR 100.20 - Requests for Reconsideration | 3 | 3 | 4 hours | 12
50 CFR 100.25-27 - Traditional/Cultural/Educational Permits and Reports | 20 | 20 | 30 minutes | 10
50 CFR 100.25-27 -Fishwheel, Fyke Net, and Under Ice Permits and Reports | 8 | 8 | 15 minutes | 2
Totals | 6,307 | 6,307 |  | 1,622

III. Request for Comments

We invite comments concerning this IC on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: May 20, 2009
Hope Grey,
Information Collection Clearance Officer, Fish and Wildlife Service.

[FR Doc. E9-12399 Filed 5-27-09; 8:45 am]

BILLING CODE 4310-55-S